FEDERAL COMMUNICATIONS COMMISSION

47 CFR Part 63

[IB Docket No. 97-142, FCC 00-339]

Rules and Policies on Foreign Participation in the U.S. Telecommunications Market

AGENCY: Federal Communications Commission.

ACTION: Final rule; announcement of effective date.

SUMMARY: This document announces the effective date of rules. The Commission amended its rules regarding the prior notifications of foreign affiliations, and the rules contained information collection requirements. These rules become effective on November 9, 2000.

EFFECTIVE DATE: The amendments to 47 CFR 63.11 published at 65 FR 60113, October 10, 2000, become effective on November 9, 2000.

FOR FURTHER INFORMATION CONTACT: Peggy Reitzel, Telecommunications Division, International Bureau, (202) 418-1499.

SUPPLEMENTARY INFORMATION: On September 12, 2000, the Commission adopted an order clarifying and revising rules regarding prior notifications of foreign affiliations, a summary of which was published in the Federal Register. See 65 FR 60113, October 10, 2000. Section 63.11 of the rules contained information collection requirements. We stated that § 63.11 contained “information collections that have not been approved by the Office of Management and Budget (OMB). The Commission will publish a document in the Federal Register announcing the effective date of that section.” The information collections were approved by OMB on October 23, 2000. See OMB No. 3060-0686. This publication satisfies our statement that the Commission would publish a document announcing the effective date of the rules.

List of Subjects in 47 CFR Part 63

Communications common carriers, Reporting and recordkeeping requirements.

Federal Communications Commission.
Magalie Roman Salas,
Secretary.

[FR Doc. 00-28887 Filed 11-9-00; 8:45 am]

BILLING CODE 6712-01-P